NUCLEAR REGULATORY COMMISSION

[Docket Nos. 50-254 and 50-265]

Exelon Generation Company, LLC, Quad Cities Nuclear Power Station, Units 1 and 2, Environmental Assessment and Finding of No Significant Impact

The U.S. Nuclear Regulatory Commission (NRC) is considering issuance of revocation of exemptions from 10 CFR part 50, Appendix R, for Facility Operating License Nos. DPR-29 and DPR-30, issued to Exelon Generation Company, LLC (ECG, or the licensee), for operation of the Quad Cities Nuclear Power Station, Units 1 and 2, located in Rock Island County, IL. Therefore, as required by 10 CFR 51.21, the NRC is issuing this environmental assessment and finding of no significant impact.

Environmental Assessment

Identification of the Proposed Action

The proposed exemption revocations would remove (1) an exemption which allows fuse pulling to preclude operation of the reactor relief valves; (2) an exemption which allows for a lack of emergency lighting for suppression pool level instrumentation; (3) an exemption which allows a lack of suppression in the vicinity of electrical equipment; (4) an exemption which allows a lack of 3-hour fire barriers in fire zones 1.1.1.1 (Unit 1) and 1.1.2.1 (Unit 2); (5) an exemption which allows a lack of 3-hour fire barriers between redundant residual heat removal trains in the reactor building and turbine building (Units 1 and 2); (6) an exemption which allows for a lack of 3-hour fire barriers between equivalent fire area 23-1 (8.2.8.D) and the northern and central zone groups; (7) an exemption which allows for a lack of 3-hour fire barriers for certain 4-kV bus duct penetrations; (8) an exemption which allows a lack of 3-hour-rated dampers in certain standby gas treatment and reactor building ventilation ducts; and (9) an exemption which allows a lack of complete detection and suppression throughout the reactor building (Units 1 and 2).

The proposed action is in accordance with the licensee's applications dated June 2 and August 3, 2000, as supplemented by letter dated September 18, 2001. Additional information was provided by letter dated May 23, 2001. The original applications were submitted by the Commonwealth Edison Company (ComEd), which merged to form EGC. By letter dated February 7, 2001, EGC assumed responsibility for all pending NRC actions that were requested by ComEd.

The Need for the Proposed Action

The proposed action will eliminate unnecessary exemptions to Appendix R of 10 CFR part 50.

Environmental Impacts of the Proposed Action

The NRC has completed its evaluation of the proposed action and concludes that the proposed revocation of exemptions is appropriate. The revocation of the exemptions reflects analyses performed by the licensee to bring plant configuration into compliance with Appendix R, thereby eliminating the need for the subject exemptions.

With regard to potential non-radiological impacts, the proposed action does involve features located entirely within the restricted area as defined in 10 CFR part 20.

The proposed action will not significantly increase the probability or consequences of accidents, no changes are being made in the types of effluents that may be released off site, and there is no significant increase in occupational or public radiation exposure. Therefore, there are no significant radiological environmental impacts associated with the proposed action.

With regard to potential non-radiological impacts, the proposed action does not have a potential to affect any historic sites. It does not affect non-radiological plant effluents and has no other environmental impact. Therefore, there are no significant non-radiological environmental impacts associated with the proposed action.

Accordingly, the NRC concludes that there are no significant environmental impacts associated with the proposed action.

Environmental Impacts of the Alternatives to the Proposed Action

As an alternative to the proposed action, the staff considered denial of the proposed action (i.e., the “no-action” alternative). Denial of the application would result in no change in current environmental impacts. The environmental impacts of the proposed action and the alternative action are similar.

Alternative Use of Resources

The action does not involve the use of any different resource than those previously considered in the Final Environmental Statement for the Quad Cities Nuclear Power Station, Units 1 and 2, dated September 1972.

Agencies and Persons Consulted

On September 17, 2001, the staff consulted with the Illinois State official, Frank Niziolek of the Illinois Department of Nuclear Safety, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letters dated June 2, 2000, August 3, 2000, May 23, 2001 and September 18, 2001. Documents may be examined, and/or copied for a fee, at the NRC's Public Document Room (PDR), located at One White Flint North, 11555 Rockville Pike (first floor), Rockville, Maryland. Publicly available records will be accessible electronically from the ADAMS Public Library component on the NRC Web site, http://www.nrc.gov (the Public Electronic Reading Room). If you do not have access to ADAMS or if there are problems in accessing the documents located in ADAMS, contact the NRC PDR Reference staff at 1-800-397-4209, or 301-415-4737, or by e-mail at pdr@nrc.gov.

Dated at Rockville, Maryland, this 20th day of September 2001.
For the Nuclear Regulatory Commission.
Anthony J. Mendiola,
Chief, Section 2, Project Directorate III, Division of Licensing Project Management, Office of Nuclear Reactor Regulation.

[FR Doc. 01-24046 Filed 9-25-01; 8:45 am]

BILLING CODE 7590-01-P